DEPARTMENT OF TRANSPORTATION

Federal Aviation Administration

Public Notice of Waiver of Aeronautical Land-Use Assurance Lebanon Municipal Airport, West Lebanon, NH

AGENCY: Federal Aviation Administration (FAA), DOT.

ACTION: Request for public comments. Notice of intent of waiver with respect to land.

SUMMARY: The FAA is considering a proposal that a portion of airport property (approximately 2.06 acres located on the South side of the Terminal Road) is no longer needed for aeronautical use, as shown on the Airport Layout Plan. There appear to be no impacts to the airport by allowing the disposal of the property. The land was acquired under FAA Project No. 9-27-006-6002 (portion of Parcel No. 7) on September 2, 1960.

In accordance with section 47107(h) of title 49, United States Code, this notice is required to be published in the Federal Register thirty (30) days before modifying the land-use assurance which requires that the property be used for an aeronautical purpose. The purpose of the release of land will provide the abutting developer more flexibility in construction of his facility by allowing the set-back lines to be closer to Airport Road.

DATES: Comments must be received on or before January 8, 2001.

FOR FURTHER INFORMATION CONTACT: Donna R. Witte, Airports Division, 12 New England Executive Park, Burlington, Massachusetts 01803. Telephone No. 781-238-7624/Fax 781-238-7608. Documents reflecting the proposed FAA action may be reviewed in person at 16 New England Executive Park, Burlington, Massachusetts or at the Lebanon Municipal Airport, West Lebanon, New Hampshire.

SUPPLEMENTARY INFORMATION: This notice announces that the FAA in considering the release of the subject airport property at Lebanon Municipal Airport, West Lebanon, New Hampshire. The disposition of proceeds from the disposal of airport property will be in accordance with FAA's Policy and Procedures Concerning the Use of Airport Revenue, published in the Federal Register on February 16, 1999.

Issued in Burlington, Massachusetts on November 28, 2000.
Vincent A. Scarano,
Manager, Airports Division, New England Region.

[FR Doc. 00-31300 Filed 12-7-00; 8:45 am]

BILLING CODE 4910-13-M